FINANCIAL CRISIS INQUIRY COMMISSION

Notice of Public Hearing

AGENCY: Financial Crisis Inquiry Commission.

ACTION: Notice.

SUMMARY: The next public hearing of the Financial Crisis Inquiry Commission (FCIC) is titled “Too Big to Fail: Expectations and Impact of Extraordinary Government Intervention and the role of Systemic Risk in the Financial Crisis.” The forum will also be webcast live at http://www.FCIC.gov.

DATES: The hearing will be held on: Wednesday, September 1, 2010, 9 a.m. EDT; and Thursday, September 2, 2010, 9 a.m. EDT.

ADDRESSES: The hearing will be held at: Dirksen Senate Office Building, Room 538, Washington, DC 20515.

FOR FURTHER INFORMATION CONTACT: Gretchen Kinney Newsom, Financial Crisis Inquiry Commission, 1717 Pennsylvania Avenue, Suite 800, Washington, DC 20006. 202-292-2799; 202-632-1604 fax.

SUPPLEMENTARY INFORMATION: The purpose of the Financial Crisis Inquiry Commission is to examine the causes, domestic and global, of the current financial and economic crisis in the United States, per the requirements of the Fraud Enforcement and Recovery Act of 2009 (“FERA”), Section 5, Public Law 111-21-123 Stat. 1617 (2009).

Public Participation: The hearing is open to the public. The Chairman of the Commission will lead the hearing for the orderly conduct of business.

Dated: August 25, 2010.
Gretchen Kinney Newsom,
Certifying Official and Special Assistant to the Chairman, Financial Crisis Inquiry Commission.

[FR Doc. 2010-21613 Filed 8-30-10; 8:45 am]

BILLING CODE 6820-RK-P